FEDERAL COMMUNICATIONS COMMISSION

47 CFR Part 73

[MB Docket No. 23-380; RM-11968; DA 24-381; FR ID 216242]

Television Broadcasting Services Missoula, Montana.

AGENCY: Federal Communications Commission.

ACTION: Final rule.

SUMMARY: The Video Division, Media Bureau (Bureau), has before it a Notice of Proposed Rulemaking issued in response to a Petition for Rulemaking filed by Sinclair Media Licensee, LLC (Petitioner or Sinclair), the licensee of KECI-TV (Station or KECI-TV), channel 13, Missoula, Montana (Missoula). The Station is currently operating on channel 13, and in 2021, the Bureau granted Sinclair's request to substitute UHF channel 20 for VHF channel 13 at Missoula in the Table of TV Allotments (Table). Sinclair currently holds a construction permit to modify its facility to operate on channel 20 and has petitioned for the substitution of channel 21 for channel 20 at Missoula in the Table. Sinclair filed comments in support of the petition, as required by the Commission's rules (rules), reaffirming its present intention to apply for a construction permit to build the Station's facilities on channel 21 and to promptly construct such facilities.

DATES: Effective May 3, 2024.

FOR FURTHER INFORMATION CONTACT: Joyce Bernstein, Media Bureau, at (202) 418-1647 or Joyce.Bernstein@fcc.gov, or Mark Colombo, Media Bureau, at (202) 418-7611 or Mark.Colombo@fcc.gov.

SUPPLEMENTARY INFORMATION: The proposed rule was published at 88 FR 80256 on November 17, 2023. The Petitioner filed comments in support of the petition reaffirming its commitment to apply for channel 21. No other comments were filed.

The Bureau believes the public interest would be served by substituting channel 21 for channel 20 at Missoula. As explained in the Petition, at the same time Sinclair requested and was granted the substitution of channel 20 for channel 13 at Missoula, it also requested and was granted the substitution of UHF channel 20 for VHF channel 6 for co-owned station KTVM-TV, Butte, Montana (Butte). As a result, both KTVM-TV and KECI-TV would operate on a co-channel basis, and Sinclair had determined that predicted interference from both stations operating on channel 20 would affect less than 1 percent of the populations within the noise limited service contours (NLSC) of each station. When the Bureau granted the substitution of channel 20 for channel 13 at Missoula, it also found that the proposed channel 20 facility had a predicted service population of 227,295 persons, a net gain of potential viewers over the existing KECI-TV channel 13 facility. Sinclair now explains, however, that in preparing to construct the new facilities on channel 20 for both stations, its local engineering staff determined that despite the predictions, the actual interference consequences of both stations operating on channel 20 at Missoula and Butte would result in a more significant number of persons receiving interference, and that the interference would not be localized but spread throughout large portions of the KTVM-TV and KECI-TV service areas. An analysis provided by the Petitioner indicates that operation of KECI-TV on channel 21 instead of channel 13 would result in a net gain in persons within the Station's NLSC receiving interference-free service, as well as an increase in the population that would receive interference-free service if the Station were to remain on the currently-allotted channel 20.

We also find that the proposal complies with all relevant technical requirements for amendment of the Table of TV Allotments, including the interference protection requirements of § 73.622(a) of the rules, and further demonstrates that the proposed channel 21 facility will provide full principal community coverage to Missoula as required by § 73.618 of the rules. Moreover, the proposed channel substitution would not cause any additional loss of service, which we have already found to be de minimis, will increase the population within both KECI-TV's and KTVM-TV's NLSCs that will receive interference-free service, and resolve co-channel interference issues caused by the stations' approved co-channel operation.

As proposed, channel 21 can be substituted for channel 20 at Missoula in compliance with the principal community coverage requirements of § 73.618(a) of the rules, at coordinates 47-01′-04.0″ N and 114-00′-50.0″ W. The proposed facility is located within the Canadian coordination zone and concurrence from the Canadian government has been obtained for this allotment.

In addition, we find that this channel change meets the technical requirements set forth in § 73.622(a) of the rules.

This is a synopsis of the Commission's Report and Order, MB Docket No. 23-380; RM-11968; DA 24-381, adopted April 23, 2024, and released April 23, 2024. The full text of this document is available for download at https://www.fcc.gov/edocs. To request materials in accessible formats for people with disabilities (braille, large print, electronic files, audio format), send an email to fcc504@fcc.gov or call the Consumer & Governmental Affairs Bureau at 202-418-0530 (voice), 202-418-0432 (tty).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

The Commission will send a copy of this Report and Order in a report to be sent to Congress and the Government Accountability Office pursuant to the Congressional Review Act, see 5 U.S.C. 801(a)(1)(A).

List of Subjects in 47 CFR Part 73

Television.

Federal Communications Commission.
Thomas Horan,
Chief of Staff, Media Bureau.

Final Rule

For the reasons discussed in the preamble, the Federal Communications Commission amends 47 CFR part 73 as follows:

PART 73—RADIO BROADCAST SERVICE

1. The authority citation for part 73 continues to read as follows:

Authority: 47 U.S.C. 154, 155, 301, 303, 307, 309, 310, 334, 336, 339.

2. In § 73.622, in paragraph (j), amend the Table of TV Allotments, under Montana, by revising the entry for Missoula to read as follows:

§ 73.622 Digital television table of allotments.

* * * * *

(j) * * *

Community | Channel No.
* * * * *
Montana
* * * * *
Missoula | *11, 21, 23, 25
* * * * *

[FR Doc. 2024-09658 Filed 5-2-24; 8:45 am]

BILLING CODE 6712-01-P